DEPARTMENT OF THE INTERIOR

National Park Service

Notice of Inventory Completion for Native American Human Remains and Associated Funerary Objects in the Possession of the Milwaukee Public Museum, Milwaukee, WI

AGENCY: National Park Service, Interior.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology in consultation with representatives of the Santa Ynez Band of Mission Indians.

At an unknown date, human remains representing one individual were removed from an unknown location .25 miles inland on the west end of Santa Rosa Island, Santa Barbara County, CA, by Milwaukee Public Museum director Henry L. Ward. Mr. Ward donated these human remains to the Milwaukee Public Museum in 1903. No known individual was identified. No associated funerary objects are present.

Following donation to the Milwaukee Public Museum, elements from this individual were combined with elements of another individual, not known to be of Native American origin, to form a complete skeleton.

Based on cranial morphology and dental traits, the remains donated by Mr. Ward in 1903 have been identified as Native American. Evidence of the effects of syphilis on the remains suggests that the burial can be dated to a post-Euro-American contact period. The geographical location of the burial is consistent with the historically known territory of the Chumash, represented today by the Santa Ynez Band of Mission Indians.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the Santa Ynez Band of Mission Indians.

This notice has been sent to officials of the Santa Ynez Band of Mission Indians. Representatives of any other Indian tribe that believes itself to be culturally affiliated with these human remains should contact Alex Barker, Ph.D., Milwaukee Public Museum, 800 West Wells Street, Milwaukee, WI 53233, telephone (414) 278-2786, before April 19, 2001. Repatriation of the human remains to the Santa Ynez Band of Mission Indians may begin after that date if no additional claimants come forward.

Dated: February 23, 2001.
John Robbins,
Assistant Director, Cultural Resources Stewardship and Partnerships.

[FR Doc. 01-6844 Filed 3-19-01; 8:45 am]

BILLING CODE 4310-70-F